DEPARTMENT OF THE INTERIOR

National Park Service

Cape Cod National Seashore, South Wellfleet, MA; Cape Cod National Seashore Advisory Commission Two Hundredth Sixty-ninth Notice of Meeting

Notice is hereby given in accordance with the Federal Advisory Committee Act (Pub. L. 92-463, 86 Stat. 770, 5 U.S.C. App 1, section 10), that a meeting of the Cape Cod National Seashore Advisory Commission will be held on September 14, 2009.

The Commission was reestablished pursuant to Public Law 87-126 as amended by Public Law 105-280. The purpose of the Commission is to consult with the Secretary of the Interior, or her designee, with respect to matters relating to the development of Cape Cod National Seashore, and with respect to carrying out the provisions of sections 4 and 5 of the Act establishing the Seashore.

The Commission members will meet at 1 p.m. in the meeting room at Headquarters, 99 Marconi Station, Wellfleet, Massachusetts for the regular business meeting to discuss the following:

1. Adoption of Agenda.

2. Approval of Minutes of Previous Meeting. (June 19, 2009).

3. Reports of Officers.

4. Reports of Subcommittees.

5. Superintendent's Report.

Update on Dune Shacks.

Improved Properties/Town Bylaws.

Wind Turbines/Cell Towers.

Highlands Center Update.

Alternate Transportation funding.

Other construction projects.

Land Protection.

6. Old Business.

7. New Business.

Ocean initiatives.

8. Date and agenda for next meeting.

9. Public comment; and

10. Adjournment.

The meeting is open to the public. It is expected that 15 persons will be able to attend the meeting in addition to Commission members.

Interested persons may make oral/written presentations to the Commission during the business meeting or file written statements. Such requests should be made to the park superintendent prior to the meeting. Further information concerning the meeting may be obtained from the Superintendent, Cape Cod National Seashore, 99 Marconi Site Road, Wellfleet, MA 02667.

Dated: August 3, 2009.
George E. Price, Jr.,
Superintendent.

[FR Doc. E9-20133 Filed 8-21-09; 8:45 am]

BILLING CODE P